DEPARTMENT OF HOUSING AND URBAN DEVELOPMENT

[Docket No. FR-4975-N-21]

Notice of Proposed Information Collection: Comment Request HUD-FHA Title I/Title II Lender Approval, Annual Recertification, Noncompliance Forms, Reports, Ginnie Mae Issuer Approval, and Credit Watch Termination Reinstatement

AGENCY: Office of the Assistant Secretary for Housing-Federal Housing Commissioner, HUD.

ACTION: Notice.

SUMMARY: The proposed information collection requirement described below will be submitted to the Office of Management and Budget (OMB) for review, as required by the Paperwork Reduction Act. The Department is soliciting public comments on the subject proposal.

DATES: Comments Due Date: September 26, 2005.

ADDRESSES: Interested persons are invited to submit comments regarding this proposal. Comments should refer to the proposal by name and/or OMB Control Number and should be sent to: Wayne Eddins, Reports Management Officer, Department of Housing and Urban Development, 451 7th Street, SW., L'Enfant Plaza Building, Room 8003, Washington, DC 20410 or Wayne_Eddins@hud.gov.

FOR FURTHER INFORMATION CONTACT: Phillip A. Murray, Director, Office of Lender Activities and Program Compliance, Assistant Secretary for Housing, Department of Housing and Urban Development, 451 7th Street SW., Washington, DC 20410, telephone (202) 708-1515 (this is not a toll free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: HUD-FHA Title I/Title II Lender Approval, Annual Recertification, Noncompliance Forms, Reports, Ginnie Mae Issuer Approval, and Credit Watch Termination Reinstatement.

OMB Control Number, if Applicable: 2502-0005.

Description of the Need for the Information and Proposed Use: The Federal Housing Administration (FHA) and the Government National Mortgage Association (Ginnie Mae), of the Department of Housing and Urban Development, approve entities to participate as Title I lenders, Title II mortgagees, and Ginnie Mae mortgage-backed securities issuers. Specific information must be obtained and reviewed to determine if an entity meets the criteria to obtain the requested approval. In addition, this submission covers subsequent information required by FHA in order for entities to maintain their approval, update information previously submitted on the entity, report any non-compliances, voluntary terminate their FHA approval, and submit reinstatement requests from mortgagees whose origination approval agreements were terminated per HUD's Credit Watch Termination Initiative.

Agency Form Numbers, if Applicable: HUD-11701, HUD-11701-A, HUD-11701-B, HUD-11701-C, HUD-11701-D, HUD-11701-E, HUD-92001-B, and HUD-56005.

Estimation of the Total Numbers of Hours Needed To Prepare the Information Collection Including Number of Respondents, Frequency of Response, and Hours of Response: The estimated total number of hours needed to prepare the information collection is 28,410; the number of respondents is 13,514 generating approximately 41,164 annual responses; the frequency of response is on occasion and annually; and the number of hours per response varies from 3 minutes to 8 hours.

Status of the Proposed Information Collection: Revision of a currently approved collection to incorporate reinstatement submissions from lenders whose origination approval agreements were terminated per HUD's Credit Watch Termination Initiative.

Authority: The Paperwork Reduction Act of 1995, 44 U.S.C., Chapter 35, as amended.

Dated: July 18, 2005.
Brian D. Montgomery,
Assistant Secretary for Housing-Federal Housing Commissioner.

[FR Doc. E5-3964 Filed 7-25-05; 8:45 am]

BILLING CODE 4210-27-P